ENVIRONMENTAL PROTECTION AGENCY

40 CFR Part 62

[TX-128-1-7466b; FRL-7067-4]

Approval and Promulgation of State Plans for Designated Facilities and Pollutants: Texas; Control of Emissions From Existing Hospital/Medical/Infectious Waste Incinerators

AGENCY: Environmental Protection Agency (EPA).

ACTION: Proposed rule.

SUMMARY: The EPA is proposing to approve the Texas Plan for Designated Facilities and Pollutants (111(d) Plan) submitted by the Governor of Texas on June 2, 2000, to implement and enforce the emissions guidelines for existing hospital/medical/ infectious waste incinerators (HMIWI).

In the “Rules and Regulations” section of this Federal Register, EPA is approving the State's HMIWI 111(d) Plan as a direct final rule without prior proposal because EPA views this as a noncontroversial revision and anticipates no adverse comment. The EPA has explained its reasons for this approval in the preamble to the direct final rule. If EPA receives no relevant adverse comment, EPA will not take further action on this proposed rule. If EPA receives relevant adverse comment, EPA will withdraw the direct final rule and it will not take effect. The EPA will address all public comments in a subsequent final rule based on this proposed rule. The EPA will not institute a second comment period on this action. Any parties interested in commenting must do so at this time.

DATES: Written comments must be received by October 31, 2001.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Bill Deese at (214) 665-7253.

SUPPLEMENTARY INFORMATION: This document concerns approval of the Texas 111(d) Plan for Existing Hospital/Medical/Infectious Waste Incinerators. For further information, please see the information provided in the direct final action that is located in the “Rules and Regulations” section of this Federal Register publication.

Authority: 42 U.S.C. 7401 et seq.

Dated: September 14, 2001.
Gregg A. Cooke,
Regional Administrator, Region 6.

[FR Doc. 01-24214 Filed 9-28-01; 8:45 am]

BILLING CODE 6560-50-P